DEPARTMENT OF COMMERCE

International Trade Administration

Postpone the Asia EDGE Business Development Mission

AGENCY: International Trade Administration, Department of Commerce.

ACTION: Notice.

SUMMARY: The United States Department of Commerce, International Trade Administration, is amending the Notice published at 85 FR 16058 (March 20, 2020), regarding the Asia EDGE (Enhancing Development and Growth through Energy) Business Development Mission to Indonesia and Vietnam, scheduled for September 14-22, 2020, to modify the dates and revise the application process for the event.

SUPPLEMENTARY INFORMATION: Amendments to revise the event dates and application process.

Background

The Department of Commerce has decided to postpone the Asia EDGE Business Development Mission, which was announced March 20, 2020 (85 FR 16058), from September 14-22, 2020, to March 17-26, 2021. The Department has been closely monitoring COVID-19 developments and believes postponing the mission is necessary to ensure safety and health. Mission stops will include Indonesia, Vietnam, and Thailand (optional). The Department of Commerce will accept additional applications for this mission through December 4, 2020 and plans to select a total of 20 firms and/or trade associations, including previously selected firms and new applicants. Firms and/or trade associations previously selected to participate in this mission will need to confirm their availability but need not reapply.

The proposed schedule is updated as follows: *

* Note: The final schedule of meetings, events, and site visits will depend on the availability of host government and business officials, specific goals of mission participants, flight availability and ground transportation options.

Tuesday March 16, 2021 | • Travel to BANGKOK
Wednesday March 17, 2021 | • Optional Spin Off Program Commences
| • BANGKOK (Visit Future Energy Asia trade show and conference)
Thursday March 18, 2021 | • BANGKOK (Full Day Sessions)
Friday March 19, 2021 | • BANGKOK (Full Day Sessions)
Saturday/Sunday March 20-21, 2021 | • Travel to JAKARTA
Monday March 22, 2021 | • Official Trade Mission Program Commences
| • JAKARTA (Full Day Sessions)
Tuesday March 23, 2021 | • JAKARTA (Morning Sessions)
| • Travel to HO CHI MINH CITY
Wednesday March 24, 2021 | • HO CHI MINH CITY (Full Day Sessions)
Thursday March 25, 2021 | • Travel to HANOI
| • HANOI (Evening Reception)
Friday March 26, 2021 | • HANOI (Full Day Sessions)
| • Official Trade Mission Program Concludes

FOR FURTHER INFORMATION CONTACT:

John Breidenstine, Regional Senior Commercial Officer, U.S. Embassy Bangkok (Thailand), U.S. Department of Commerce, Phone: 66-2-205-5090, Email: john.breidenstine@trade.gov

Cathy Gibbons, Global Energy Team Lead, U.S. Commercial Service, Westchester (New York), U.S. Department of Commerce, Phone: 1-914-682-6712, Email: cathy.gibbons@trade.gov

Victoria Yue, International Trade Specialist, Office of Energy and Environmental Industries, U.S. Department of Commerce, Phone: 1-202-482-3492, Email: victoria.yue@trade.gov

Eric Hsu, Senior Commercial Officer, U.S. Embassy Hanoi (Vietnam), U.S. Department of Commerce, Phone: 84-24-3850-5070, Email: eric.hsu@trade.gov

David Nufrio, International Trade Specialist, Global Markets Asia, U.S. Department of Commerce, Phone: 1-202-482-5175, Email: david.nufrio@trade.gov

Paul Taylor, Commercial Officer, U.S. Embassy Jakarta (Indonesia), U.S. Department of Commerce, Phone: 62-815-1080-0475, Email: paul.taylor@trade.gov

Gemal Brangman, Senior Advisor, Trade Missions, ITA Events Management Task Force, U.S. Department of Commerce, Phone: 1-202-482-3773, Email: gemal.brangman@trade.gov

Dated: August 21, 2020.
Edward O'Malley,
Director, I&A/Office of Energy and Environmental Industries.

[FR Doc. 2020-19198 Filed 8-31-20; 8:45 am]

BILLING CODE 3510-DR-P